DEPARTMENT OF JUSTICE

[OMB Number 1110-0002]

Agency Information Collection Activities; Proposed eCollection eComments Requested; Extension of a Currently Approved Collection; Supplementary Homicide Report (SHR)

AGENCY: Federal Bureau of Investigation, Department of Justice.

ACTION: 60-Day notice.

SUMMARY: The Federal Bureau of Investigation (FBI), Criminal Justice Information Services Division, Department of Justice (DOJ), will be submitting the following information collection request to OMB for review and approval in accordance with the Paperwork Reduction Act (PRA) of 1995.

DATES: Comments are encouraged and will be accepted for 60 days until January 29, 2024.

FOR FURTHER INFORMATION CONTACT: If you have additional comments, especially on the estimated public burden or associated response time, suggestions, or need a copy of the proposed information collection instrument with instructions or additional information, please contact Edward L. Abraham, Crime and Law Enforcement Statistics Unit Chief, FBI, CJIS Division, Module D-1, 1000 Custer Hollow Road, Clarksburg, West Virginia 26306, telephone: 304-625-4830, email: elabraham@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under title 28, United States Code, sections 534(a) and (c), this collection requests homicide data from respondents for the FBI's Uniform Crime Reporting (UCR) Program to serve as the national clearinghouse for the collection and dissemination of homicide and other crime-related data and to publish these statistics. SHR collects details about all murders and nonnegligent manslaughters (including justifiable homicides) and negligent manslaughters. The details include the reporting agency; month and year; situation; age, sex, race, and ethnicity of the victim(s) and the offender(s); weapon type used; relationship of the victim(s) to the offender(s); and circumstance(s) surrounding the incident (e.g., argument, robbery, gang related), if known.

Overview of This Information Collection

1. Type of Information Collection: Extension of a previously approved collection.

2. The Title of the Form/Collection: Supplementary Homicide Report (SHR).

3. The agency form number, if any, and the applicable component of the Department sponsoring the collection: The form number is 1-704. The applicable component within DOJ is the CJIS Division, FBI.

4. Affected public who will be asked or required to respond, as well as the obligation to respond: Affected Public: State, local and tribal governments, Federal Government. The obligation to respond is voluntary.

5. An estimate of the total number of respondents and the amount of time estimated for an average respondent to respond: The estimated number of LEAs submitting SHR data to the UCR Program monthly via the Summary Reporting System is 6,652. Annually, those LEAs submit a total of 79,824 responses (6,652 LEAs × 12 months = 79,824 responses annually). The estimated time it takes for an average respondent to respond is nine minutes.

6. An estimate of the total annual burden (in hours) associated with the collection: The estimated number of LEAs submitting SHR data to the UCR Program monthly via the Summary Reporting System is 6,652. Annually, those LEAs submit a total of 79,824 responses (6,652 LEAs × 12 months = 79,824 responses annually). The estimated time it takes for an average respondent to respond is nine minutes.

7. An estimate of the total annual cost burden associated with the collection, if applicable: Currently, LEAs incur no direct costs by participating in the FBI UCR Program. With the renewal of this collection, respondents are not expected to incur any capital, start-up, or system maintenance costs. Costs to agency records management systems are very difficult to obtain. Vendors do not divulge costs because charges differ from agency to agency and many costs are built into vendors' contracts. Depending on the contract, charges mandated by law may be included with no other additional costs. However, an estimate has been projected that agencies pay a $107,000 maintenance fee every year for system maintenance costs.

Total Burden Hours
Activity | Number of respondents | Frequency | Total annual responses | Time per response (minutes) | Total annual burden (hours)
Supplementary Homicide Report (SHR) | 6,652 | 1/month | 79,824 | 9 | 11,973
Unduplicated Totals | 6,652 | 1/month | 79,824 | 9 | 11,973

If additional information is required contact: Darwin Arceo, Department Clearance Officer, United States Department of Justice, Justice Management Division, Policy and Planning Staff, Two Constitution Square, 145 N Street NE, 4W-218, Washington, DC.

Dated: November 21, 2023.
Darwin Arceo,
Department Clearance Officer for PRA, U.S. Department of Justice.

[FR Doc. 2023-26105 Filed 11-27-23; 8:45 am]

BILLING CODE 4410-02-P